DEPARTMENT OF TRANSPORTATION

Federal Aviation Administration

14 CFR Part 39

[Docket No. FAA-2006-25011; Directorate Identifier 2006-NM-118-AD; Amendment 39-14646; AD 2006-12-20]

RIN 2120-AA64

Airworthiness Directives; Raytheon Model HS.125 Series 700A and 700B Airplanes; Model BAe.125 Series 800A (Including Variants C-29A and U-125), 800B, 1000A, and 1000B Airplanes; and Hawker 800 (Including Variant U-125A), 800XP, and 1000 Airplanes

AGENCY: Federal Aviation Administration (FAA), Department of Transportation (DOT).

ACTION: Final rule; request for comments.

SUMMARY: The FAA is adopting a new airworthiness directive (AD) for all Raytheon Model BAe.125 series 800A (including variants C-29A and U-125), 800B, 1000A, and 1000B airplanes and Model Hawker 800 (including variant U-125A) and 1000 airplanes; and for certain Raytheon Model HS.125 series 700A and 700B airplanes and Model Hawker 800XP airplanes. This AD requires measuring the resistance of the current limiters for the PE, PS1, and PS2 busses, and replacing a current limiter with a new part if necessary. This AD also requires reporting certain information to the airplane manufacturer. This AD allows a records review for determining if suspect current limiters were installed, which may exempt airplanes from the required measurement. This AD results from reports that certain current limiters have opened within two to four hours after installation. We are issuing this AD to prevent loss of all primary electrical power, which could result in the airplane operating only under emergency power.

DATES: This AD becomes effective July 3, 2006.

The Director of the Federal Register approved the incorporation by reference of a certain publication listed in the AD as of July 3, 2006.

We must receive comments on this AD by August 15, 2006.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, Room PL-401, Washington, DC 20590.

• Fax: (202) 493-2251.

• Hand Delivery: Room PL-401 on the plaza level of the Nassif Building, 400 Seventh Street SW., Washington, DC, between 9:00 a.m. and 5:00 p.m., Monday through Friday, except Federal holidays.

Contact Raytheon Aircraft Company, Department 62, P.O. Box 85, Wichita, Kansas 67201-0085, for service information identified in this AD.

FOR FURTHER INFORMATION CONTACT: Philip Petty, Aerospace Engineer, Electrical Systems and Avionics, ACE-119W, FAA, Wichita Aircraft Certification Office, 1801 Airport Road, room 100, Mid-Continent Airport, Wichita, Kansas 67209; telephone (316) 946-4139; fax (316) 946-4107.

SUPPLEMENTARY INFORMATION:

Discussion

We have received several reports indicating that certain current limiters, part number (P/N) UAM100, have opened within two to four hours after installation. The current limiters are the primary bus feed for the PE, PS1, and PS2 busses. Three of the reports indicated that one or more of the current limiters opened in flight. Investigation has revealed that the supplier provided parts that did not meet specification, and that a specific batch of parts has exhibited the anomaly of opening. The suspect current limiters were delivered beginning February 1, 2006, and have picking tag purchase order (PO) 4501760749 or PO 4501743706. These suspect parts could be installed on any or all three busses. Loss of all three busses may occur, resulting in loss of all primary direct current electrical power. This condition, if not corrected, could result in the airplane operating only under emergency power.

Relevant Service Information

We have reviewed Raytheon Service Bulletin SB 24-3793, including Service Bulletin / Kit Drawing Report Fax, dated May 2006. The service bulletin describes the following procedures:

• Inspecting airplane maintenance records to determine if a 24-month inspection of the current limiters has been accomplished in accordance with the aircraft flexible maintenance schedule (AFMS) beginning February 1, 2006.

• Inspecting airplane maintenance records to determine if any current limiter, P/N UAM100, has been replaced on condition beginning February 1, 2006.

• Replacing any current limiter that meets either of the two conditions specified above and destroying the current limiter after removing it from the airplane.

• Measuring the resistance of any current limiter, P/N UAM100, whose batch cannot be verified (i.e., the picking tag PO is unknown).

• Removing and destroying any current limiter, P/N UAM100, from picking tag PO 4501760749 or PO 4501743706 stored as a spare part.

• Reporting accomplishment of the service bulletin to the airplane manufacturer. Accomplishing the actions specified in the service information is intended to adequately address the unsafe condition.

FAA's Determination and Requirements of This AD

The unsafe condition described previously is likely to exist or develop on other airplanes of the same type design. For this reason, we are issuing this AD to prevent loss of all primary electrical power, which could result in the airplane operating only under emergency power. This AD requires measuring the resistance of the current limiters for the PE, PS1, and PS2 busses, and replacing a current limiter with a new part if necessary. This AD also requires reporting certain information to the airplane manufacturer. This AD allows a records review for determining if the most recent 24-month “F” or “F7” inspection, as applicable, and the most recent replacement of current limiters have been accomplished from February 1, 2006, through the effective date of this AD. (An “F” inspection is applicable to airplanes not on a phase program, and an “F7” inspection is applicable to airplanes on a phase program.) This AD also allows a records review for determining the picking tag PO of the current limiters. The records review may exempt airplanes from the required measurement. This AD differs from the referenced Raytheon service bulletin, as discussed under “Differences Between the AD and Service Bulletin.”

Differences Between the AD and Service Bulletin

The effectivity of the service bulletin includes all airplanes that may have had one or more of the suspect current limiters installed on an airplane, regardless of whether those suspect parts would likely lead to an unsafe condition. The applicability of this AD instead applies only to airplanes on which an unsafe condition is likely to exist, if suspect parts are installed on an airplane. Therefore, this AD does not include Raytheon Model Hawker 850XP airplanes, Model DH.125 and BH.125 series airplanes, and certain Model HS.125 series airplanes. We have coordinated this difference with the manufacturer.

The service bulletin recommends inspecting aircraft maintenance records to determine if a 24-month inspection and on-condition replacement of the current limiters have been accomplished beginning February 1, 2006, which could have resulted in installing a suspect current limiter on the airplane. This AD instead requires measuring the resistance of all current limiters to verify that safe parts are installed on an airplane. In lieu of that requirement, this AD does allow a records review if the date of the most recent 24-month “F” or “F7” inspection, as applicable, and replacement of current limiters can be determined conclusively and shown to have not been accomplished from February 1, 2006, through the effective date of this AD. As an alternative to measuring the resistance, this AD also allows an operator to conduct a records review if the picking tag PO of the current limiters can be determined conclusively from that review and shown not to be from the batch of suspect parts.

Paragraph 3.A.(2) of the service bulletin specifies that for a current limiter: “The correct resistance should measure 0.00046 to 0.00056 ohms (0.45 to 0.56 milliohms).” We have verified with the manufacturer that the correct lower value is 0.46 milliohms, not 0.45 milliohms as specified in the service bulletin. We have included the correct measurement in paragraph (f) of this AD.

The service bulletin specifies to destroy suspect current limiters after removing them from an airplane and any suspect parts stored as spares. This AD, however, does not require destroying any current limiter.

FAA's Determination of the Effective Date

Since an unsafe condition exists that requires the immediate adoption of this AD, we have found that notice and opportunity for public comment before issuing this AD are impracticable, and that good cause exists to make this AD effective in less than 30 days.

Comments Invited

This AD is a final rule that involves requirements that affect flight safety and was not preceded by notice and an opportunity for public comment; however, we invite you to submit any relevant written data, views, or arguments regarding this AD. Send your comments to an address listed in the ADDRESSES section. Include “Docket No. FAA-2006-25011; Directorate Identifier 2006-NM-118-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-12-20 Raytheon Aircraft Company: Amendment 39-14646. Docket No. FAA-2006-25011; Directorate Identifier 2006-NM-118-AD.

Effective Date

(a) This AD becomes effective July 3, 2006.

Affected ADs

(b) None.

Applicability

(c) This AD applies to the Raytheon airplanes identified in paragraphs (c)(1), (c)(2), and (c)(3) of this AD, certificated in any category.

(1) Model HS.125 series 700A and 700B airplanes, on which Raytheon Modification 252885 has been incorporated or British Aerospace 125 Service Bulletin SB 24-239-2885 has been accomplished.

(2) All Model BAe.125 series 800A (including variants C-29A and U-125), 800B, 1000A, and 1000B airplanes.

(3) All Model Hawker 800 (including variant U-125A) and 1000 airplanes; and Model Hawker 800XP airplanes, serial numbers 1 through 258768 inclusive.

Unsafe Condition

(d) This AD results from reports that certain current limiters have opened within two to four hours after installation. We are issuing this AD to prevent loss of all primary electrical power, which could result in the airplane operating only under emergency power.

Compliance

(e) You are responsible for having the actions required by this AD performed within the compliance times specified, unless the actions have already been done.

Resistance Measurement and Replacement if Necessary

(f) Within 30 days or 25 flight hours after the effective date of this AD, whichever occurs first: Measure the resistance of the applicable current limiters, part number (P/N) UAM100, in accordance with paragraph 3.A.(2) of the Accomplishment Instructions of Raytheon Service Bulletin SB 24-3793, dated May 2006. The applicable current limiters are listed in Table 1 of the service bulletin. If the measured resistance of a current limiter is less than 0.46 milliohms or greater than 0.56 milliohms, before further flight, replace the part with a new part in accordance with the service bulletin. The new part must not be from picking tag purchase order (PO) 4501760749 or PO 4501743706 and must be the correct resistance in the range of 0.46 milliohms to 0.56 milliohms.

Records Review

(g) A review of airplane maintenance records is acceptable in lieu of the resistance measurement required by paragraph (f) of this AD, if the criteria in paragraph (g)(1) or (g)(2) of this AD can be determined conclusively from that review.

(1) The records review determines conclusively the date of the most recent 24-month “F” or “F7” inspection, as applicable, of current limiters and the date of the most recent replacement of current limiters, and that the inspection and replacement were not accomplished from February 1, 2006, through the effective date of this AD.

(2) The records review determines conclusively the picking tag PO of the current limiters, and that the current limiters are not from picking tag PO 4501760749 or PO 4501743706.

Reporting Requirement

(h) At the applicable time specified in paragraph (h)(1) or (h)(2) of this AD: Submit the Service Bulletin/Kit Drawing Report Fax (attached to Raytheon Service Bulletin SB 24-3793) to the Manager, Hawker Model Group, Raytheon Aircraft Company, Product Support Department (211), P.O. Box 85, Wichita, Kansas 67201-0085; fax (316) 676-3400. The report must include the results of the measurements required by paragraph (f) of this AD, the name(s) of the owner and operator of the airplane, the airplane registration number, the airplane serial number, and the number of landings and flight hours on the airplane. Under the provisions of the Paperwork Reduction Act (44 U.S.C. 3501 et seq.), the Office of Management and Budget (OMB) has approved the information collection requirements contained in this AD and has assigned OMB Control Number 2120-0056.

(1) If the measurements were accomplished after the effective date of this AD: Submit the report within 10 days after the inspection.

(2) If the measurements were accomplished before the effective date of this AD: Submit the report within 10 days after the effective date of this AD.

Parts Installation

(i) As of the effective date of this AD, no person may install a current limiter, P/N UAM100, on any airplane, unless the part meets one of the criteria specified in paragraphs (i)(1) and (i)(2) of this AD.

(1) The picking tag PO of the current limiter can be determined conclusively from a review of airplane maintenance records and shown not to be from picking tag PO 4501760749 or PO 4501743706.

(2) The resistance of the current limiter is measured and determined to be of the correct resistance in accordance with paragraph (f) of this AD.

Alternative Methods of Compliance (AMOCs)

(j)(1) The Manager, Wichita Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Material Incorporated by Reference

(k) You must use Raytheon Service Bulletin SB 24-3793, including Service Bulletin/Kit Drawing Report Fax, dated May 2006, to perform the actions that are required by this AD, unless the AD specifies otherwise. The Director of the Federal Register approved the incorporation by reference of this document in accordance with 5 U.S.C. 552(a) and 1 CFR part 51. Contact Raytheon Aircraft Company, Department 62, P.O. Box 85, Wichita, Kansas 67201-0085, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on June 5, 2006.
Kalene C. Yanamura,
Acting Manager, Transport Airplane Directorate, Aircraft Certification Service.

[FR Doc. 06-5327 Filed 6-15-06; 8:45 am]

BILLING CODE 4910-13-P